DEPARTMENT OF HEALTH AND HUMAN SERVICES

Centers for Medicare & Medicaid Services

42 CFR Parts 405, 410, 411, 412, 413, 416, 419, 424, 485, and 489

[CMS-1772-FC; CMS-1744-F; CMS-3419-F; CMS-5531-F; CMS-9912-F]

RIN 0938-AU82

Medicare Program: Hospital Outpatient Prospective Payment and Ambulatory Surgical Center Payment Systems and Quality Reporting Programs; Organ Acquisition; Rural Emergency Hospitals: Payment Policies, Conditions of Participation, Provider Enrollment, Physician Self-Referral; New Service Category for Hospital Outpatient Department Prior Authorization Process; Overall Hospital Quality Star Rating; COVID-19

Correction

In rule document 2023-23918 beginning on page 71748 in the issue of November 23, 2022, make the following correction:

§ 413.404 Corrected

On page 72288, in the first column, in amendatory instruction 23, in the seventh line “(b)(3)(ii)(C)(1) through (3)” should read “(b)(3)(ii)(C)(1) through (3)”.

On page 72288, in the second column, in paragraph (b)(3)(i)(C)(1)(ii), in the second line “(b)(3)(i)(C)(1)(i)” should read “(b)(3)(i)(C)(1)(i)”.

On the same page, in the same column, in paragraph (b)(3)(i)(C)(2)(ii), in the first line “(b)(3)(i)(C)(2)(i)” should read “(b)(3)(i)(C)(2)(i)”.

On the same page, in the third column, in paragraph (b)(3)(i)(C)(1)(ii), “(b)(3)(i)(C)(1)(i)” should read “(b)(3)(i)(C)(1)(i)”.

On the same page, in the same column, in paragraph (b)(3)(i)(C)(2)(ii), in the second line “(b)(3)(ii)(B)(2)(i)” should read “(b)(3)(ii)(B)(2)(i)”.

[FR Doc. C1-2022-23918 Filed 8-23-23; 8:45 am]

BILLING CODE 1505-01-D